INTERNATIONAL TRADE COMMISSION

[USITC SE-16-025]

Government in the Sunshine Act Meeting Notice

AGENCY HOLDING THE MEETING: United States International Trade Commission

TIME AND DATE: July 20, 2016 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 731-TA-308-310 and 520-521 (Fourth Review) (Carbon Steel Butt-Weld Pipe Fittings from Brazil, China, Japan, Taiwan, and Thailand). The Commission is currently scheduled to complete and file its determinations and views of the Commission on August 3, 2016.

5. Outstanding action jackets: None.

In accordance with Commission policy, subject matter listed above, not disposed of at the scheduled meeting, may be carried over to the agenda of the following meeting.

By order of the Commission.
Issued: July 12, 2016.
Katherine M. Hiner,
Acting Supervisory Attorney.

[FR Doc. 2016-17012 Filed 7-14-16; 4:15 pm]

BILLING CODE 7020-02-P